DEPARTMENT OF ENERGY

Amended Notice of Intent To Modify the Scope of the Environmental Impact Statement for the Champlain Hudson Power Express Transmission Line Project in New York State

AGENCY: Department of Energy.

ACTION: Amended Notice of Intent.

SUMMARY: The United States (U.S.) Department of Energy (DOE) intends to modify the scope of the Champlain Hudson Power Express Transmission Line Project Environmental Impact Statement (CHPE EIS; DOE/EIS-0447) and to conduct additional public scoping. As described in the original Notice of Intent (NOI) (75 FR 34720; June 18, 2010), in January 2010, Transmission Developers Inc. (TDI) submitted, on behalf of Champlain Hudson Power Express, Inc. (Applicant), an application to DOE for a Presidential permit for the Champlain Hudson Power Express (Champlain Hudson) project. As explained in the NOI, DOE will assess the potential environmental impacts associated with the construction, operation, maintenance, and connection of the proposed new electric transmission line across the U.S.-Canada border in northeastern New York State. Public scoping originally closed on August 2, 2010. On February 28, 2012, TDI submitted an amendment to the application for a Presidential permit to DOE that reflects proposed changes to the route of the Champlain Hudson project, and DOE now intends to revise the scope of the EIS to address these proposed changes. The proposed changes are the result of settlement negotiations among New York (NY) State agencies, Champlain Hudson Power Express, Inc., CHPE Properties, Inc. and other stakeholders as part of the project review under Article VII of the New York State Public Service Law, and are reflected in a February 24, 2012, “Joint Proposal” submitted to the New York Public Service Commission.

The U.S. Fish & Wildlife Service, New York Field Office (USFWS Region 5), the U.S. Army Corps of Engineers (USACE), the U.S. Environmental Protection Agency (EPA Region 2), the New York State Department of Environmental Conservation (NYSDEC), and the New York State Department of Public Service (NYSDPS) are cooperating agencies in the preparation of the EIS.

DATES: DOE is accepting public comments on the revised scope of the CHPE EIS until June 14, 2012. DOE will consider comments submitted after this date to the extent practicable.

ADDRESSES: Please direct written comments on the scope of the EIS and requests to be added to the document mailing list to: Brian Mills, Office of Electricity Delivery and Energy Reliability (OE-20), U.S. Department of Energy, 1000 Independence Avenue SW., Washington, DC 20585; by electronic mail to Brian.Mills@hq.doe.gov; or by facsimile to 202-586-8008. For general information on the DOE NEPA process contact: Ms. Carol M. Borgstrom, Director, Office of NEPA Policy and Compliance (GC-54), U.S. Department of Energy, 1000 Independence Avenue SW., Washington, DC 20585; telephone 202-586-4600, or leave a message at 1-800-472-2756; by facsimile at 202-586-7031; or send an email to askNEPA@hq.doe.gov.

For information on the USFWS's role as a cooperating agency, contact Tim R. Sullivan by electronic mail at Tim_R_Sullivan@fws.gov; by phone at 602-753-9334; or by mail at 3817 Luker Road, Cortland, NY 13045.

For information on the Army Corps of Engineers' permit process, contact Naomi J. Handell by electronic mail at Naomi.J.Handell@usace.army.mil; or by mail at 696 Virginia Road, Concord, MA 01742.

For information on the EPA's role as a cooperating agency, contact Lingard Knutson by electronic mail at Knutson.Lingard@epamail.epa.gov; by phone at 212-637-3747; or by mail at 290 Broadway, Mail Code: 25th Floor, New York, NY 10007-1866.

For information on the New York State Department of Environmental Conservation's role as a cooperating agency, contact Patricia Desnoyers by electronic mail to pjdesnoy@gw.dec.state.ny.us; or by mail at 625 Broadway, Albany, NY 12233.

For information on the New York State Department of Public Service's role as a cooperating agency, contact James Austin by electronic mail at james_austin@dps.state.ny.us; or by mail at 3 Empire State Plaza, Albany, NY 12223.

SUPPLEMENTARY INFORMATION:

Background

Executive Order (E.O.) 10485, Providing for the performance of certain functions heretofore performed by the President with respect to electric power and natural gas facilities located on the borders of the United States, as amended by E.O. 12038 Relating to certain Functions transferred to the Secretary of Energy by the Department of Energy Organization Act, requires issuance of a Presidential permit by DOE before electric transmission facilities may be constructed, operated, maintained, or connected at the U.S. international border. The E.O. provides that a Presidential permit may be issued after a finding that the proposed project is consistent with the public interest and after favorable recommendations from the U.S. Departments of State and Defense. In determining consistency with the public interest, DOE considers the potential environmental impacts of the proposed project under NEPA, determines the project's impact on electric reliability (including whether the proposed project would adversely affect the operation of the U.S. electric power supply system under normal and contingency conditions), and considers any other factors that DOE may find relevant to the public interest. The regulations implementing the E.O. have been codified at 10 CFR 205.320-205.329. DOE's issuance of a Presidential permit would indicate that there is no Federal objection to the project, but would not mandate that the project be constructed.

On January 25, 2010, TDI submitted an application, on behalf of Champlain Hudson Power Express, Inc., to DOE's Office of Electricity Delivery and Energy Reliability for a Presidential permit to construct, operate, maintain, and connect a 2,000-megawatt (MW) high-voltage direct current (HVDC) Voltage Source Converter (VSC) controllable transmission system from the Canadian Province of Quebec to the New York City and southwestern Connecticut regions. After due consideration of the nature and extent of the proposed project, including evaluation of the “Information Regarding Potential Environmental Impacts” section of the Presidential permit application, DOE determined that the appropriate level of NEPA review for this project is an EIS. DOE issued its original NOI for this EIS on June 18, 2010 (75 FR 34720).

On August 5, 2010, TDI submitted an amendment to the application that eliminated a portion of the proposed transmission line consisting of a bipole (two cables) that would have extended into Connecticut (the Connecticut Circuit). This change in the project's design resulted in a proposed HVDC transmission line that would consist of a bipole with a capacity of 1,000-MW. The amendment also proposed extending the route using existing railroad easements to Whitehall, NY, and connecting to the Consolidated Edison (Con Edison) system at a new substation in Astoria, Queens, NY. On July 7, 2011, TDI submitted an amendment to the application that addressed five conditions required by the New York State Department of State (NYSDOS). A copy of these amendments can be found at http://chpexpresseis.org.

On February 28, 2012, TDI submitted another amendment to the Champlain Hudson project Presidential permit application to reflect changes to the proposed route that resulted from a project review process under Article VII of the New York State Public Service Law. A copy of the February 28, 2012, permit application amendment letter and other project-related documents can be viewed at http://chpexpresseis.org.

New York State Certification Review Process

Article VII of the New York State Public Service Law establishes the review process for consideration of any application to construct and operate a major electric transmission system. As part of this process, the New York State Public Service Commission (Commission) received the application for a Certificate of Environmental Compatibility and Public Need from Champlain Hudson Power Express, Inc. in a series of documents dated March 29, 2010, and held public statement hearings on the original application in 2010.

Subsequently, the Applicant entered into settlement negotiations with several parties regarding the proposed facility need and benefits, alternate locations, environmental impacts, and mitigation measures. These negotiations resulted in a “Joint Proposal” which includes a proposed project alignment and configuration that is different from the original proposal for the Champlain Hudson project. The Joint Proposal also contains provisions regarding construction methods, environmental controls and mitigation measures, including the creation of a trust to study and mitigate possible impacts of the Champlain Hudson project's underwater cables on habitat in the Hudson River Estuary, the Harlem and East Rivers, Lake Champlain, and their tributaries. A copy of the Joint Proposal and other related documents can be viewed at http://chpexpresseis.org.

Applicant's Proposal

As set forth in the Joint Proposal, the Applicant's preferred alternative now consists of a single 1,000-MW HVDC bipole. The bipole is comprised of two connected submarine or underground cables, one of which is positively charged, and the other negatively charged. In total, two cables would be laid between the Province of Quebec, Canada, and a proposed converter station in Astoria, Queens, NY. The converter station would change the electrical power from direct current to alternating current (AC). The converter station would be connected to the New York Power Authority gas insulated switchgear substation via an underground HVAC line, and the substation would be connected to Con Edison's Rainey Substation, located in Astoria, via HVAC cables installed under New York City streets. The proposed transmission line would connect renewable sources of power generation in Canada with load centers in and around New York City.

The Champlain Hudson project would still originate at an HVDC converter station near Hydro-Québec TransÉnergie's 765/315-kilovolt (kV) Hertel substation, located southeast of Montreal, and continue approximately 35 miles to the international border between the United States and Canada where the HVDC cables would originate underwater at the Town of Champlain, NY and extend south through Lake Champlain for approximately 101 miles, entirely within the jurisdictional waters of New York State. However, instead of exiting the southern end of Lake Champlain at the Village of Whitehall, NY, as originally proposed, the cables would now exit Lake Champlain at the Town of Dresden and run underground along New York State Route 22 to Whitehall.

The Upper Hudson River portion of the Hudson River polychlorinated biphenyl (PCB) site (USEPA Identification Number NYD980763841) stretches from Hudson Falls, NY, to the Federal Dam at Troy, NY. To avoid installing and burying HVDC cables within this area and in certain sensitive areas of the lower Hudson River, the cables would now be buried along an overland route. From Whitehall, the cables would transition from the Route 22 right-of-way (ROW) to enter the originally proposed route in existing railroad ROW owned by Canadian Pacific Railway (CP) and would remain buried for approximately 65 miles in and along the railroad ROW from Whitehall to Schenectady, NY. The proposed route would enter Erie Boulevard just north of the railroad crossing at Nott Street and continue along Erie Boulevard to a point south of State Street where it would again enter the railroad ROW. Along this portion of the route there are various alternative routings that include both the railroad ROW and public ways for transitioning from the railroad to city streets. The public ways include Nott Street, North Jay Street, Green Street, North Center Street, Pine Street, Union Street, Liberty Street and State Street as well as private property (a parking lot) located at approximately 160 Erie Boulevard. The route would follow the railroad ROW for a short distance, and would then deviate west of the railroad property, pass under Interstate 890 then turn south, running approximately parallel with the CSX Transportation (CSX) railroad ROW, and would re-enter the CP railroad ROW just north of Delaware Avenue.

From this point in Schenectady, the proposed route would follow the CP railroad ROW to the Town of Rotterdam, NY. In Rotterdam, the route would transfer from the CP railroad ROW to the CSX railroad ROW and would proceed southeast for approximately 24 miles before entering the Town of Selkirk, NY. The cables would then travel south for approximately 29 miles generally in and along CSX railroad ROW through the municipalities of Ravena, New Baltimore, Coxsackie, the Town of Athens, and the Town of Catskill, NY. As originally proposed the cables would have entered the Hudson River at the Town of Coeymans, NY. Now, the cables would enter the Hudson River at the Town of Catskill (hamlet of Cementon), via horizontal direction drilling (HDD). The HVDC underwater cables would be located within the Hudson River for approximately 67 miles until reaching a point north of Haverstraw Bay. As part of the revised project route, the cables would then exit the Hudson River at the Town of Stony Point in Rockland County, NY, to allow for a 7.7 mile bypass of Haverstraw Bay; this portion of the route would include three HDD installations under the Stony Point State Historic Park Site and Rockland Lake State Park. After the HDD under the parks, the cables would enter the Hudson River via HDD and be buried in the river for approximately 20.7 miles to the Spuyten Duyvil, where it would now extend south-easterly within the Harlem River for approximately 6.6 miles before exiting the water to a location along an existing railway ROW in the borough of the Bronx, NY. The cables would then continue along that ROW for approximately 1.1 miles.

At this point, the revised route would enter the East River via HDD, cross the East River and make land-fall at Astoria, Queens, NY. The cables would terminate at a new converter station proposed to be located near Luyster Creek, north of 20th Avenue, for a total length of approximately 330 miles from the U.S. border with Canada. The converter station would be installed on properties owned by Con Edison located in an industrial zone in Astoria and is proposed to have a total footprint of approximately five acres. The converter station would interconnect via underground circuit with the NYPA substation near the site of the Charles Poletti Power Project in Queens, NY. The substation would be connected to Con Edison's Rainey Substation, located in Astoria, via HVAC cables installed under New York City streets. A map of the proposed Champlain Hudson transmission line project route can be found at http://chpexpresseis.org.

Previous Public Scoping

A public scoping period for the CHPE EIS began with the publication of DOE's NOI in the Federal Register on June 18, 2010. The 45-day public scoping period closed on August 2, 2010. DOE received scoping comments in the form of 22 written letters or emails from private citizens, government agencies, and nongovernmental organizations. DOE held public scoping meetings from July 8, through July 16, 2010, in Bridgeport, Connecticut and Manhattan, Yonkers, Kingston, Albany, Queensbury, and Plattsburg, NY. A total of 33 people gave verbal comments at the meetings, and their comments were transcribed by court stenographers.

Commenters requested that the EIS establish evidence that the Champlain Hudson project is necessary to meet electricity demands (either current or future) in the project region, as well as address concerns over the impact of construction on existing transmission infrastructure. Commenters expressed concerns with regard to sediment disturbance and the potential impacts of contaminants in the water column on humans and wildlife from burying the transmission line in Lake Champlain and the Hudson River. Commenters also requested that the EIS specifically analyze potential thermal effects and effects of electromagnetic fields on aquatic ecosystems, and noted concern over impacts to visually important resources from construction of the transmission line. Commenters noted potential environmental and socioeconomic impacts from a proposed electric converter station in Yonkers, NY. Finally, commenters identified additional alternatives that they believed should be analyzed in the EIS. A copy of the Scoping Summary Report (December 2010) is available at http://chpexpresseis.org. DOE will address these comments, to the extent they are still relevant, as well as those submitted during the public comment period for this Amended NOI, in the CHPE EIS.

Public Scoping for the Revised Applicant Proposal

Pursuant to the submittal of the Joint Proposal, the NY State Public Service Commission is holding six public statement hearings in April 2012 in a variety of locations along the revised Champlain Hudson project route, including the municipalities of Whitehall, Catskill, Ravena, Schenectady, Garnerville, and Astoria, NY. While DOE does not currently intend to hold further public scoping meetings, it recognizes that comments provided by the public during the Commission's public statement hearings may be relevant to DOE's NEPA process. Therefore, DOE intends to review the April public statement hearing transcripts, in addition to scoping comments submitted directly to DOE, and will consider them, to the extent matters relevant to the federal environmental review process arise, as scoping comments for purposes of the EIS.

Agency Purpose and Need, Proposed Action, and Alternatives

The purpose and need for DOE's action is to decide whether to grant a Presidential permit for the Champlain Hudson project.

The proposed Federal action is the granting of the Presidential permit for the construction, operation, maintenance, and connection of the proposed new electric transmission line across the U.S.-Canada border in northeastern New York State. The EIS will analyze potential environmental impacts from the proposed action and the No Action Alternative. Because the proposed action may involve actions in floodplains and wetlands, and in accordance with 10 CFR part 1022, Compliance with Floodplain and Wetland Environmental Review Requirements, the draft EIS will include a floodplain and wetland assessment as appropriate, and the final EIS or record of decision will include a floodplain statement of findings. If granted, the Presidential permit would authorize only that portion of the line that would be constructed, operated and maintained wholly within the U.S.

DOE is seeking comment on the scope of the alternatives proposed and potential environmental impacts for analyses in the EIS and currently proposes to analyze the following alternatives in detail: (1) the Champlain Hudson project, as proposed by the Applicant in the Joint Proposal filed with the New York Public Service Commission on February 24, 2012 and submitted to DOE on February 28, 2012 as an amended application for a Presidential permit, and (2) the No Action Alternative, which assumes that DOE would not grant a Presidential permit for the Champlain Hudson project and that the proposed line and associated facilities would not be constructed.

Issued in Washington, DC, on April 24, 2012.
Brian Mills,
Deputy Assistant Secretary, Permitting, Siting and Analysis, Office of Electricity Delivery and Energy Reliability.

[FR Doc. 2012-10304 Filed 4-27-12; 8:45 am]

BILLING CODE 6450-01-P